OVERSEAS PRIVATE INVESTMENT CORPORATION

January 19, 2006 Board of Directors Meeting; Sunshine Act Meeting

Time and Date: Thursday, January 19, 2006, 10 a.m. (Open Portion) 10:15 a.m. (Close Portion)

Place: Offices of the Corporation, Twelfth Floor Board Room, 1100 New York Avenue, NW., Washington, DC.

Status: Meeting Open to the Public from 10 a.m. to 10:15 a.m. Closed portion will commence at 10:15 a.m. (approx.)

Matters to be Considered: 1. President's Report.

2. Tribute.

3. Tribute.

4. Confirmation of Vice President.

5. Approval of October 27, 2005 Minutes (Open Portion).

Further Matters to be Considered: (Closed to the Public 10:15 a.m.)

1. Auditors Report.

2. Finance Project—Global.

3. Finance Project—Ukraine, Moldova.

4. Finance Project—Ukraine, Bulgaria, Romania.

5. Approval of October 27, 2005 Minutes (Closed Portion).

6. Pending Major Projects.

7. Reports.

Contact Person for Information: Information on the meeting may be obtained from Connie M. Downs at (202) 336-8438.

Dated: January 6, 2006.
Connie M. Downs,
Corporate Secretary, Overseas Private Investment Corporation.

[FR Doc. 06-230 Filed 1-6-06; 10:22 am]

BILLING CODE 3210-01-M